INTERNATIONAL TRADE COMMISSION

[USITC SE-13-039]

Sunshine Act Meeting

AGENCY HOLDING THE MEETING: United States International Trade Commission.

TIME AND DATE: January 6, 2014 at 11:30 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-448 and 731-TA-1117 (Review) (Certain Off-the-Road Tires From China). The Commission is currently scheduled to complete and file its determinations and views on or before January 15, 2014.

5. Vote in Inv. Nos. 701-TA-452 and 731-TA-1129-1130 (Review) (Raw Flexible Magnets From China and Taiwan). The Commission is currently scheduled to complete and file its determinations and views on or before January 15, 2014.

6. Outstanding action jackets: None.

In accordance with Commission policy, subject matter listed above, not disposed of at the scheduled meeting, may be carried over to the agenda of the following meeting. Earlier notification of this meeting was not possible.

By order of the Commission.
Dated: December 30, 2013.
William R. Bishop,
Supervisory Hearings and Information Officer.

[FR Doc. 2013-31535 Filed 12-31-13; 11:15 am]

BILLING CODE 7020-02-P